DEPARTMENT OF COMMERCE

International Trade Administration

[C-475-821]

Notice of Rescission of Countervailing Duty Administrative Review: Stainless Steel Wire Rod from Italy

AGENCY: Import Administration, International Trade Administration, Department of Commerce.

ACTION: Notice of Rescission of Countervailing Duty Administrative Review.

SUMMARY: On October 18, 2002, the Department of Commerce (the Department) initiated an administrative review of the countervailing duty order on stainless steel wire rod (SSWR) from Italy, covering the period January 1, 2001 through December 31, 2001, and one manufacturer/exporter of the subject merchandise, Acciaierie Valbruna S.p.A. (Valbruna). See Initiation of Antidumping and Countervailing Duty Administrative Reviews and Requests for Revocation in Part, 67 FR 65336 (October 24, 2002). This review has now been rescinded due to Valbruna's withdrawal of its request for an administrative review.

EFFECTIVE DATE: February 27, 2003.

FOR FURTHER INFORMATION CONTACT: Stephanie Moore or Jim Neel, AD/CVD Enforcement, Office 6, Group II, Import Administration, International Trade Administration, U.S. Department of Commerce, 14th Street and Constitution Avenue, NW, Washington, DC 20230; telephone: (202) 482-3692 or (202) 482-4161, respectively.

SUPPLEMENTARY INFORMATION:

Background

On September 30, 2002, the Department received a letter from Valbruna requesting an administrative review of the countervailing order on SSWR from Italy. On October 18, 2002, the Department initiated an administrative review of this order for the period January 1, 2001 through December 31, 2001. On January 6, 2003, Valbruna submitted a letter requesting to withdraw from the above referenced administrative review.

Scope of the Review

For purposes of this administrative review, SSWR comprises products that are hot-rolled or hot-rolled annealed and/or pickled and/or descaled rounds, squares, octagons, hexagons or other shapes, in coils, that may also be coated with a lubricant containing copper, lime or oxalate. SSWR is made of alloy steels containing, by weight, 1.2 percent or less of carbon and 10.5 percent or more of chromium, with or without other elements. These products are manufactured only by hot-rolling or hot-rolling, annealing, and/or pickling and/or descaling, and are normally sold in coiled form, and are of solid cross-section. The majority of SSWR sold in the United States is round in cross-sectional shape, annealed and pickled, and later cold-finished into stainless steel wire or small-diameter bar. The most common size for such products is 5.5 millimeters or 0.217 inches in diameter, which represents the smallest size that normally is produced on a rolling mill and is the size that most wire drawing machines are set up to draw. The range of SSWR sizes normally sold in the United States is between 0.20 inches and 1.312 inches in diameter.

The products covered by this administrative review are currently classifiable under subheadings 7221.00.0005, 7221.00.0015, 7221.00.0030, 7221.00.0045, and 7221.00.0075 of the Harmonized Tariff Schedule of the United States (HTSUS). Although the HTSUS subheadings are provided for convenience and Customs purposes, the written description of the scope of this review is dispositive.

Rescission of Review

Within 90 days of the October 24, 2002 notice of initiation, Valbruna requested to withdraw its request for an administrative review. See Letter from Valbruna to the Department dated January 6, 2003 on file in the Central Records unit, Room B-099, Main Building of the Department of Commerce.

In accordance with the Department's regulations, and consistent with its practice, the Department hereby rescinds the administrative review of SSWR from Italy for the period January 1, 2001 to December 31, 2001. See 19 CFR section 351.213(d)(1), which states in pertinent part: “The Secretary will rescind an administrative review under this section, in whole or in part, if a party that requested a review withdraws the request within 90 days of the date of publication of notice of initiation of the requested review.”

This notice is in accordance with section 751(a)(1) of the Tariff Act of 1930, as amended, and section 351.213(d) of the Department's regulations.

Dated: February 13. 2003.
Bernard Carreau,
Deputy Assistant Secretary for Import Administration.

[FR Doc. 03-4578 Filed 2-26-03; 8:45 am]

BILLING CODE 3510-DS-S